COMMISSION ON CIVIL RIGHTS

Agenda and Notice of Public Meeting of the Colorado Advisory Committee

Notice is hereby given, pursuant to the provisions of the rules and regulations of the U.S. Commission on Civil Rights, that a meeting of the Colorado State Advisory Committee will convene at 12:30 p.m. (MST) and adjourn at 4 p.m. (MST), Thursday, May 18, 2006, at the Wellshire Inn, 3333 S. Colorado Blvd., Denver, CO 80222. The purpose of the meeting is to conduct orientation for new advisory committee members; provide an overview of the USCCR including recent Commission activities and new policies affecting Advisory Committees; plan participation in regional project “Confronting Discrimination in Reservation Border Town Communities” in Colorado; and consider participation in a project on school desegregation.

Persons desiring additional information, or planning a presentation to the Committee, should contact John F. Dulles, Director of the Rocky Mountain Regional Office, (303) 866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC., April 20, 2006.
Ivy L. Davis,
Chief, Regional Programs Coordination Unit.

[FR Doc. E6-6275 Filed 4-25-06; 8:45 am]

BILLING CODE 6335-01-P